DEPARTMENT OF ENERGY

Federal Energy Regulatory Commission

[Docket No. EL00-73-000]

Mansfield Municipal Electric Department and North Attleborough Electric Department, Complainants, v. New England Power Company, Respondent; Notice of Complaint

May 10, 2000.

Take notice that on May 5, 2000, the Mansfield Municipal Electric Department and North Attleborough Electric Department (Municipal Complainants) filed a complaint against New England Power Company (NEP). The complaint asserts that NEP's assessment of rolled-in network service charges for service provided to the Municipal Complainants entirely over limited high-voltage radial lines is unjust and unreasonable. The Complaint requests that the Commission summarily rule that NEP's charges to the Municipal Complainants under Tariff No. 9 must be limited to a level appropriately tied to the depreciated (i.e., net plant, not gross plant) value of the limited, high-voltage, non-integrated facilities the Municipals actually use to connect to the NEPOOL high-voltage pool transmission facilities. The Complaint further requests that the Municipal Complainants be refunded the difference between the unreasonable rolled-in charges and the appropriate, direct-assignment charges (plus applicable transition charges) for the 15-month refund window afforded by Section 206 of the Federal Power Act, and that the refund window be set to commence July 4, 2000, the earliest date allowed under FPA Section 206.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before May 30, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before May 30, 2000.

David P. Boergers,
Secretary.

[FR Doc. 00-12215 Filed 5-15-00; 8:45 am]

BILLING CODE 6717-01-M